DEPARTMENT OF LABOR

Employment and Training Administration

[NAFTA-05323]

Armada, Inc. Leland, NC; Amended Certification Regarding Eligibility To Apply for Worker Adjustment Assistance

In accordance with Section 250(A), Subchapter D, Chapter 2, Title II, of the Trade Act of 1974 (19 USC 2273) the Department of Labor issued a Certification for NAFTA Transitional Adjustment Assistance on October 16, 2001, applicable to workers of Armada, Inc., Zinc Die Cast Department, Secondary Department, Leland, North Carolina. The notice was published in the Federal Register on October 30, 2001 (66 FR 54784).

At the request of the company, the Department reviewed the certification for workers of the subject firm. Findings show that the Department limited its certification coverage to workers of the subject firm's Zinc Die Cast Department, the Secondary Department or engaged in employment in support of those Departments.

New company information shows that worker separations occurred and a shift in the production of plastic parts and aluminum die cast parts to Canada is occurring at the subject firm's other manufacturing departments; the Aluminum and Plastic Parts Departments resulting in the entire plant closing in early 2002.

It is the intent of the Department to include “all workers” of Armada, Inc. adversely affected by a shift in production of plastic parts and aluminum die cast parts to Canada.

The Department is amending the certification determination to correctly identify the worker group to read “all workers.”

The amended notice applicable to NAFTA-05323 is hereby issued as follows:

All workers of Armada, Inc., Leland, North Carolina who became totally or partially separated from employment on after September 12, 2000, through October 16, 2003, are eligible to apply for NAFTA-TAA under Section 250 of the Trade Act of 1974.

Signed at Washington, DC, this 17th day of January 2002.
Linda G. Poole,
Certifying Officer, Division of Trade Adjustment Assistance.

[FR Doc. 02-2323 Filed 1-30-02; 8:45 am]

BILLING CODE 4510-30-M